DEPARTMENT OF THE INTERIOR

Bureau of Reclamation

South Delta Improvements Program, Sacramento-San Joaquin Bay Delta, California

AGENCY: Bureau of Reclamation, Interior.

ACTION: Notice of Availability of the Draft Environmental Impact Statement/ Environmental Impact Report (EIS/EIR) and notice of public workshops and hearings.

SUMMARY: The Bureau of Reclamation (Reclamation) and the California Department of Water Resources (DWR) have made available for public review and comment the Draft EIS/EIR for the South Delta Improvements Program (SDIP).

The proposed SDIP would (1) construct and operate a fish control gate at the Head of Old River; (2) construct and operate up to 3 flow control gates (one each in Middle River, Grant Line Canal, and Old River, near the Tracy Pumping Plant) to maintain adequate water quality and water levels available for agricultural diversions in the south Delta, downstream of the Head of Old River; (3) dredge various channels within the south Delta to improve conveyance; (4) construct extensions of up to 24 shallow agricultural diversions; (5) increase water deliveries by increasing the maximum diversion through the existing intake gates at Clifton Court Forebay to 8,500 cubic feet per second; and (6) implement an interim operations regime between December 15 and March 15 until the permanent gates are fully operable.

DATES: Submit written comments on the Draft EIS/EIR on or before February 7, 2006 to the address provided below. Public meetings will be held to discuss the purpose and content of the Draft EIS/EIR. The public meetings will be held as follows:

• December 6, 2005, 1:30 to 3:30 p.m., Sacramento, CA.

• December 7, 2005, 7 to 9 p.m., Stockton, CA.

• December 8, 2005, 7 to 9 p.m., Oakland, CA.

• December 13, 2005, 7 to 9 p.m., Visalia, CA.

• December 14, 2005, 1 to 3 p.m., Los Angeles, CA.

Three public hearings have been scheduled to receive oral or written comments regarding the project's environmental effects:

• January 18, 2005, 1 to 4 p.m., Sacramento CA.

• January 24, 2005, 1 to 3 p.m., Los Angeles, CA.

• January 25, 2005, 1 to 4 p.m., Stockton, CA.

ADDRESSES: The locations of the public meetings are:

• Resources Auditorium, 1416 Ninth Street, Sacramento, CA.

• American Legion Post 803, 3110 West Lane, Stockton, CA.

• CSU East Bay Oakland Conference Room, 1000 Broadway, Oakland, CA.

• Mill Creek Auditorium, 3100 West Main, Visalia, CA.

• Junipero Serra State Building, Carmel Room 225, 320 West Fourth Street, Los Angeles, CA.

The locations of the public hearings are:

• CALFED, Bay Delta Room, 5th Floor, 650 Capitol Mall, Sacramento CA (need driver's license to enter the building; no picture phones allowed).

• Junipero Serra State Building, Carmel Room 225, 320 West Fourth Street, Los Angeles, CA.

• Department of General Services Auditorium, 31 East Channel Street, Stockton, CA.

Hardcopy comments may be mailed to Mr. Paul Marshall, SDIP EIS/EIR Comments, State of California Department of Resources, Bay Delta Office, 1416 Ninth Street, Sacramento, California, 95814. Electronic comments may be emailed to sdip comments@water.ca.gov, or posted on the SDIP Web site at http://sdip.water.ca.gov.

See SUPPLEMENTARY INFORMATION section for locations where copies of the Draft EIS/EIR are available for public review.

FOR FURTHER INFORMATION CONTACT: Ms. Sharon McHale, Reclamation Program Manager, at 916-978-5086, or e-mail: smchale@mp.usbr.gov; or Mr. Paul A. Marshall, DWR Program Manager at 916-653-2118, or e-mail at marshall@water.ca.gov. The Draft EIS/EIR may be viewed at http://sdip.water.ca.gov or at Reclamation's Web site at http://www.usbr.gov/mp/nepa/nepa_projdetails.cfm?Project_ID=316. To request a copy of the Draft EIS/EIR, please contact Ms. McHale as indicated above.

SUPPLEMENTARY INFORMATION: The Draft EIS/EIR addresses facilities-related impacts including the effects of project construction and operation on hydrology, water quality, fish resources, recreation, vegetation and wildlife, visual resources, cultural resources, land use, geology, soils, seismicity, groundwater, traffic and circulation, air quality, noise, and public health and safety. Diversion-related impacts include the effects of increased diversions from the Bay Delta and associated changes in Reclamation's operation of Central Valley Project (CVP) facilities and DWR's operation of State Water Project (SWP) facilities. Project diversions therefore may directly or indirectly affect the Sacramento River, its tributaries, San Joaquin River, its tributaries, and Delta resources including water supply, fish and aquatic habitat, riparian vegetation and habitat, water quality, recreation, visual and cultural resources. The Draft EIS/EIR also evaluates potential growth-inducing impacts for the CVP and SWP water service areas. An evaluation of cumulative hydrologic and water service area impacts associated with reasonably foreseeable actions is also included.

Copies of the Draft EIS/EIR are available for public review at the following locations:

• California Department of Water Resources, Bay-Delta Office, 1416 Ninth Street, Sacramento, CA 95814.

• Bureau of Reclamation, Regional Library, 2800 Cottage Way, Sacramento, CA 95825-1898, 916-978-5593.

• Bureau of Reclamation, Denver Office Library, Building 67, Room 167, Denver Federal Center, 6th and Kipling, Denver, CO 80225, 303-445-2072.

• Natural Resources Library, U.S. Department of the Interior, 1849 C Street NW., Main Interior Building, Washington, DC 20240-0001.

• Sacramento Public Library, 828 I Street, Sacramento, CA 95814.

• Tracy Branch Library, 20 E. Eaton Ave., Tracy, CA 95376.

• Lathrop Branch Library, 15461 Seventh St. Lathrop, CA 95330.

• Cesar Chavez Central Library, 60 N. El Dorado St. Stockton, CA 95202.

• Shasta County Main Library, 1855 Shasta Street Redding, CA 96001.

• Oakland Main Library, 125 14th Street, Oakland CA 94612.

• Los Angeles Central Library, 630 W. 5th St., Los Angeles, CA 90071.

• Visalia Branch Library—Main Library, 200 West Oak Avenue, Visalia, CA 93291-4993.

Comments, including names and home addresses of respondents, will be made available for public review. Individual respondents may request that their home address be withheld from public disclosure, which will be honored to the extent allowable by law. There also may be circumstances in which respondent's identity may also be withheld from public disclosure, as allowable by law. If you wish to have your name and/or address withheld, you must state so prominently at the beginning of your comment. All submissions from organizations or businesses, and from individuals identifying themselves as representatives or officials of organizations or businesses, will be made available for public disclosure in their entirety.

Dated: August 4, 2005.
Allan Oto,
Acting Assistant Regional Director, Mid-Pacific Region.

[FR Doc. 05-22259 Filed 11-9-05; 8:45 am]

BILLING CODE 4310-MN-P